BROADCASTING BOARD OF GOVERNORS

Sunshine Act Meeting

DATE AND TIME: Thursday, September 13, 2012, 4:45 p.m. EDT.

PLACE: Cohen Building, Room 3321, 330 Independence Ave. SW., Washington, DC 20237.

SUBJECT: Notice of Meeting of the Broadcasting Board of Governors.

SUMMARY: The Broadcasting Board of Governors (BBG) will be meeting at the time and location listed above. At the meeting, the BBG will receive and consider a report from the Governance Committee with recommendations regarding grantee administrative streamlining, receive and consider a progress report from the Strategy and Budget Committee, and consider two resolutions honoring employees for their service. The BBG will recognize the anniversaries of Agency language services, receive a distribution/technology initiatives update, receive a budget update, and receive reports from the International Broadcasting Bureau Director, the Communications and External Affairs Director, the Strategy and Development Director, the VOA Director, the Office of Cuba Broadcasting Director, and the Presidents of Radio Free Europe/Radio Liberty, Radio Free Asia, and the Middle East Broadcasting Networks.

The public may attend this meeting in person at BBG headquarters in DC as seating capacity allows. Members of the public seeking to attend the meeting in person must register at http://bbgboardmeetingsept2012.eventbrite.com by 10 a.m. (EDT) on September 12. For more information, please contact BBG Public Affairs at (202) 203-4400 or by email at pubaff@bbg.gov. This meeting will also be available for public observation via streamed webcast, both live and on-demand, on the BBG's public Web site at http://www.bbg.gov. The public is advised to check the Web site for updated information on the starting time of the meeting.

CONTACT PERSON FOR MORE INFORMATION: Persons interested in obtaining more information should contact Paul Kollmer-Dorsey at (202) 203-4545.

Paul Kollmer-Dorsey,
Deputy General Counsel.

[FR Doc. 2012-22483 Filed 9-7-12; 4:15 pm]

BILLING CODE 8610-01-P